ENVIRONMENTAL PROTECTION AGENCY

[FRL-8444-7; Docket ID No. EPA-HQ-OEI-2007-0464]

Draft EPA's 2007 Report on the Environment: Highlights of National Trends

AGENCY: Environmental Protection Agency (EPA).

ACTION: Notice of Public Comment Period.

SUMMARY: EPA is announcing a 45-day public comment period for the draft document entitled, “EPA's 2007 Report on the Environment: Highlights of National Trends” document (ROE HD). This public comment period is coincident to the public, scientific peer review of the draft document by The National Advisory Council on Environmental Policy and Technology and members of EPA's Science Advisory Board (SAB). Notice of public meetings of the NACEPT and SAB will be announced via separate Federal Register Notices.

The draft “EPA's 2007 Report on the Environment: Highlights of National Trends” document was prepared by EPA Program and Regional Offices, the Office of Environmental Information (OEI), the Office of Research and Development (ORD), the Office of Policy Economics and Innovation (OPEI), and the Office of the Chief Financial Officer (OCFO) with coordination by the Office of Information Analysis and Access within EPA's OEI.

EPA is releasing this draft document solely for the purpose of pre-dissemination peer review under applicable information quality guidelines. This document has not been formally disseminated by EPA. It does not represent and should not be construed to represent any Agency policy or determination. EPA will consider any public comments submitted in accordance with this notice when revising the document.

DATES: The 45-day public comment period begins August 3, 2007 and ends September 17, 2007. Comments should be in writing and must be received by EPA by September 17, 2007.

ADDRESSES: The draft “EPA's 2007 Report on the Environment: Highlights of National Trends” is available via the Internet on the EPA Web site at http://www.epa.gov/roe.

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: OEI.Docket@epa.gov.

For technical information, contact Suzanne Annand, OIAA; telephone: 202-566-0639; facsimile: 202-566-0699; or e-mail: annand.suzanne@epa.gov.

SUPPLEMENTARY INFORMATION:

I. Information About the Project/Document

The U.S. Environmental Protection Agency (EPA) developed EPA's 2007 Report on the Environment to help answer questions that are of critical importance to its mission to protect human health and the environment. The Report on the Environment documents trends in the condition of the nation's environment and human health and identifies significant gaps in our knowledge. It is not intended to be a report card on EPA's programs and activities.

Written for a general audience, this document, EPA's 2007 Report on the Environment: Highlights of National Trends, summarizes some of the more important findings from the more comprehensive companion report, EPA's 2007 Report on the Environment: Science Report (ROE SR) which was released in draft for public comment on May 10, 2007. The environmental indicators shown in the ROE HD were selected for inclusion based on their importance to the public and scientists, as well as their ability to answer a series of key questions about the environment. (For more information on the ROE SR, please see Federal Register: May 10, 2007 (72 FR 26629-26631) or visit http://www.epa.gov/ncea).

The ROE HD is organized around 25 topics that are important to EPA. Each topic page includes a brief summary of what we know—and don't know—about conditions and trends in the nation's air, water, land, ecological condition, and human health. The information on these topics comes from highly reliable indicators and is based on the most recent data available from a variety of governmental and non-governmental organizations.

The indicators for EPA's 2007 ROE Science Report that comprise the main content of the ROE HD underwent independent scientific peer review as well as public review and comment in the summer and fall of 2005 and are available at http://www.epa.gov/roeindicators.

II. How To Submit Technical Comments to the Docket at www.regulations.gov

Submit your comments, identified by Docket ID No. EPA-HQ-OEI 2007-0464 by one of the following methods:

• www.regulations.gov: Follow the on-line instructions for submitting comments.

• E-mail: OEI.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building,1301 Constitution Ave., N.W.,Washington, DC. The EPA Docket Center Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-OEI-2007-0464. Please ensure that your comments are submitted within the specified comment period. Comments received after the closing date will be marked “late,” and may only be considered if time permits. It is EPA's policy to include all comments it receives in the public docket without change and to make the comments available online at www.regulations.gov, including any personal information provided, unless a comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the www.regulations.gov index. Although listed in the index, some information is not publicly available, e.g., CBI or other information whose disclosure is restricted by statute. Certain other materials, such as copyrighted material, are publicly available only in hard copy. Publicly available docket materials are available either electronically in www.regulations.gov or in hard copy at the OEI Docket in the EPA Headquarters Docket Center.

Dated: July 18, 2007.
Richard A. Martin,
Deputy Director, Office of Information Analysis and Access.

[FR Doc. E7-15123 Filed 8-2-07; 8:45 am]

BILLING CODE 6560-50-P